DEPARTMENT OF HEALTH AND HUMAN SERVICES

Health Resources and Services Administration

HIV/AIDS Bureau; Policy Notice 99-02 Amendment #1

AGENCY: Health Resources and Services Administration (HRSA).

ACTION: Notice of rescinded Policy Notice 99-02, Amendment #1.

SUMMARY: The HRSA HIV/AIDS Bureau (HAB) Policy Notice 99-02 established general policies regarding the use of Title XXVI of the Public Health Service (PHS) Act, Ryan White HIV/AIDS Program funds for housing referral services and short-term or emergency housing needs. Amendment #1 to Policy Notice 99-02, effective March 27, 2008, modified Policy Notice 99-02 by imposing a 24-month cumulative cap on short-term and emergency housing assistance. HRSA's Administrator is undertaking a comprehensive review of the Housing Policy, and is therefore directing that Amendment #1 to Policy Notice 99-02 be rescinded, effective immediately.

SUPPLEMENTARY INFORMATION: Following the rescission of Amendment #1 to Policy Notice 99-02, Ryan White HIV/AIDS Program, grantees will not be required to enforce the amendment for beneficiaries that might be at or near the 24-month cumulative cap on short-term and emergency housing assistance. At the same time, grantees will benefit from general policy guidance with regard to the use of Ryan White HIV/AIDS Program funds for housing referral services and short-term or emergency housing needs. A comprehensive review of the Housing Policy will permit HRSA's Administrator time to evaluate completely all aspects of it. The Policy Notice is amended to address updated nomenclature, and is reprinted below for ease of reference.

DATES: Amendment #1 to Policy Notice 99-02 is rescinded effective February 10, 2010.

HRSA and HIV/AIDS Bureau (HAB) Policy Notice 99-02

Document Title: The Use of Ryan White HIV/AIDS Program Funds for Housing Referral Services and Short-Term or Emergency Housing Needs

The following Policy establishes guidelines for allowable housing-related expenditures under the Ryan White HIV/AIDS Program. The purpose of all Ryan White HIV/AIDS Program funds is to ensure that eligible HIV-infected persons and families gain or maintain access to medical care.

A. Funds received under the Ryan White HIV/AIDS Program (Title XXVI of the PHS Act) may be used for the following housing expenditures:

i. Housing referral services defined as assessment, search, placement, and advocacy services must be provided by case managers or other professionals who possess a comprehensive knowledge of local, State, and Federal housing programs and how they can be accessed; or

ii. Short-term or emergency housing defined as necessary to gain or maintain access to medical care and must be related to either:

a. Housing services that include some type of medical or supportive service: including, but not limited to, residential substance abuse or mental health services (not including facilities classified as an Institute of Mental Diseases under Medicaid), residential foster care, and assisted living residential services; or

b. Housing services that do not provide direct medical or supportive services, but are essential for an individual or family to gain or maintain access and compliance with HIV-related medical care and treatment. Necessity of housing services for purposes of medical care must be certified or documented.

B. Short-term or emergency assistance is understood as transitional in nature and for purposes of moving or maintaining an individual or family in a long-term, stable living situation. Thus, such assistance cannot be permanent and must be accompanied by a strategy to identify, relocate, and/or ensure the individual or family is moved to, or capable of maintaining, a long-term, stable living situation.

C. Housing funds cannot be in the form of direct cash payments to recipients for services and cannot be used for mortgage payments.

D. The Ryan White HIV/AIDS Program must be the payer of last resort. In addition, funds received under the Ryan White HIV/AIDS Program must be used to supplement, but not supplant funds currently being used from local, State, and Federal Agency programs. Grantees must be capable of providing HAB with documentation related to the use of funds as the payer of last resort and the coordination of such funds with other local, State, and Federal funds.

E. Housing-related expenses are limited to Parts A, B, and D of the Ryan White HIV/AIDS Program, and are not allowable expenses under Part C.

Dated: February 5, 2010.
Mary K. Wakefield,
Administrator.

[FR Doc. 2010-2926 Filed 2-9-10; 8:45 am]

BILLING CODE 4165-15-P